DEPARTMENT OF LABOR

Employment and Training Administration

Notice of Availability of Funds and Solicitation for Grant Applications for YouthBuild

AGENCY: Employment and Training Administration, Labor.

ACTION: Notice of Solicitation for Grant Applications (SGA).

Funding Opportunity Number: SGA/DFA PY-13-04

SUMMARY: The Employment and Training Administration (ETA), U.S. Department of Labor (DOL), announces the availability of approximately $73 million for YouthBuild grants.

YouthBuild grants will be awarded through a competitive process. Under this SGA, DOL will award grants to organizations to oversee the provision of education, occupational skills training, and employment services to disadvantaged youth in their communities while performing meaningful work and service to their communities. Based on our estimate of FY 2014 funding, DOL hopes to serve approximately 4,950 participants during the grant period of performance, with approximately 75 projects awarded across the country.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is April 22, 2014. Applications must be received no later than 4:00:00 p.m. Eastern Time.

FOR FURTHER INFORMATION CONTACT: Denise Roach, 200 Constitution Avenue NW., Room N-4716, Washington, DC 20210; Telephone: 202-693-3820.

Signed: February 18, 2014, in Washington, DC.
Eric D. Luetkenhaus,
Grant Officer, Employment and Training Administration.

[FR Doc. 2014-03850 Filed 2-21-14; 8:45 am]

BILLING CODE 4510-FT-P